DEPARTMENT OF HEALTH AND HUMAN SERVICES

Substance Abuse and Mental Health Services Administration

Agency Information Collection Activities: Proposed Collection; Comment Request; Correction

AGENCY: Substance Abuse and Mental Health Services Administration, Department of Health and Human Services.

ACTION: Notice; correction.

SUMMARY: The Substance Abuse and Mental Health Services Administration published a document in the Federal Register on November 20, 2025, concerning requests for comments on Proposed Project: SAMHSA Unified Performance Reporting Tool (SUPRT)—Project (P)—(OMB No. 0930-NEW). The document contained an incorrect website link to review a copy of the proposed Information Collection. All requests for review copies should be submitted to the SAMHSA Reports Clearance Officer at samhsapra@samhsa.hhs.gov.

DATES: Comments on the ICR must be received on or before January 20, 2026.

ADDRESSES: Submit your comments to SAMHSA Reports Clearance Officer at samhsapra@samhsa.hhs.gov.

FOR FURTHER INFORMATION CONTACT: When submitting comments or requesting information, please include the project title for reference to the SAMHSA Reports Clearance Officer at samhsapra@samhsa.hhs.gov.

SUPPLEMENTARY INFORMATION: In the Federal Register of November 20, 2025, in FR Doc. 2025-20393, starting on page 52413, the following correction is made: On page 52414, in the second column, the first full sentence is corrected to read “The draft tool can be requested from the SAMHSA Reports Clearance Officer at samhsapra@samhsa.hhs.gov.”

Carlos Graham,
Reports Clearance Officer.

[FR Doc. 2026-00657 Filed 1-14-26; 8:45 am]

BILLING CODE 4162-20-P